DEPARTMENT OF COMMERCE

International Trade Administration

[A-570-932]

Certain Steel Threaded Rod From the People's Republic of China: Preliminary Results and Partial Rescission of the Antidumping Duty Administrative Review; 2014-2015

AGENCY: Enforcement and Compliance, International Trade Administration, Department of Commerce.

SUMMARY: The Department of Commerce (the “Department”) is conducting the sixth administrative review of the antidumping duty order on certain steel threaded rod (“STR”) from the People's Republic of China (“PRC”),¹ for the period of review (“POR”), April 1, 2014, to March 31, 2015. The Department selected two respondents for individual review, Zhejiang New Oriental Fastener Co., Ltd. (“New Oriental”), and the RMB/IFI Group.² The Department preliminarily determines that New Oriental sold subject merchandise in the United States at prices below normal value (“NV”) and that the RMB/IFI Group did not sell subject merchandise in the United States at prices below NV. If these preliminary results are adopted in the final results, the Department will instruct U.S. Customs and Border Protection (“CBP”) to assess antidumping duties on all appropriate entries of subject merchandise during the POR. Interested parties are invited to comment on these preliminary results.

¹ See Certain Steel Threaded Rod from the People's Republic of China: Notice of Antidumping Duty Order, 74 FR 17154 (April 14, 2009) (“Order”).

² RMB Fasteners Ltd., IFI & Morgan Ltd., and Jiaxing Brother Standard Part Co., Ltd. (collectively “the RMB/IFI Group”).

DATES: Effective Date: May 13, 2016.

FOR FURTHER INFORMATION CONTACT: Jerry Huang or Andrew Devine, AD/CVD Operations, Office V, Enforcement and Compliance, International Trade Administration, Department of Commerce, 14th Street and Constitution Avenue NW., Washington, DC 20230; telephone: (202) 482-4047 or (202) 482-0238, respectively.

SUPPLEMENTARY INFORMATION:

Scope of the Order

The merchandise covered by the order includes steel threaded rod. The subject merchandise is currently classifiable under subheading 7318.15.5051, 7318.15.5056, 7318.15.5090, and 7318.15.2095 of the United States Harmonized Tariff Schedule (“HTSUS”). Although the HTSUS subheading is provided for convenience and customs purposes, the written description of the merchandise is dispositive.³

³ For a full description of the scope of the Order, see Memorandum from Christian Marsh, Deputy Assistant Secretary, AD/CVD Operations, to Paul Piquado, Assistant Secretary for Enforcement and Compliance, “Decision Memorandum for Preliminary Results of Sixth Antidumping Duty Administrative Review: Certain Steel Threaded Rod from the People's Republic of China” (“Preliminary Decision Memorandum”) (May 5, 2016).

Partial Rescission of the Administrative Review

On April 1, 2015, the Department published in the Federal Register a notice of opportunity to request an administrative review of the AD order on certain steel threaded rod.⁴ The Department received multiple timely requests for an administrative review of the AD order on certain steel threaded rod and on May 26, 2015, in accordance with section 751(a) of the Tariff Act of 1930, as amended (“the Act”), the Department published in the Federal Register a notice of the initiation of an administrative review of that order.⁵ The administrative review was initiated with respect to 91 companies or groups of companies on June 24, 2015, Vulcan Threaded Products, Inc. (“Petitioner”) withdrew its request for an administrative review on 83 companies.⁶

⁴ See Antidumping or Countervailing Duty Order, Finding, or Suspended Investigation; Opportunity To Request Administrative Review, 80 FR 17392 (April 1, 2015).

⁵ See Initiation of Antidumping and Countervailing Duty Administrative Reviews, 80 FR 30041, 30046-47 (May 26, 2015).

⁶ See Letter to the Department from Petitioner, Re: Sixth Administrative Review of Certain Steel Threaded Rod from China—Petitioner's Withdrawal of Review Requests for Specific Companies (June 24, 2015).

Pursuant to 19 CFR 351.213(d)(1), the Secretary will rescind an administrative review, in whole or in part, if a party who requested the review withdraws the request within 90 days of the date of publication of notice of initiation of the requested review. Petitioner timely withdrew its request for an administrative review of the 83 companies listed in the Appendix I. Petitioner was the only party to request a review of these companies. Accordingly, the Department is rescinding this review, in part, with respect to these entities, in accordance with 19 CFR 351.213(d)(1).⁷

⁷ See Appendix I.

PRC-Wide Entity

Of the eight companies for which requests for review remain, two are the mandatory respondents New Oriental and the RMB/IFI Group which have demonstrated eligibility for separate rate. The remaining six companies are not eligible for separate rate status or rescission, as they did not submit completed separate rate applications or certifications.

The Department's change in policy regarding conditional review of the PRC-wide entity applies to this administrative review.⁸ Under this policy, the PRC-wide entity will not be under review unless a party specifically requests, or the Department self-initiates, a review of the entity. Because no party requested a review of the PRC-wide entity in this review, the PRC-wide entity is not under review and therefore its rate is not subject to change (i.e., 206 percent).⁹ Accordingly, the remaining six companies subject to this review that are not eligible for separate rate status or rescission are determined to be part of the PRC-wide entity. These companies are: Brother Holding Group Co., Ltd.; Jiaxing Xinyue Standard Part Co., Ltd.; Zhejiang Heiter Industries Co., Ltd.; Zhejiang Heiter MFG & Trade Co., Ltd.; Zhejiang Junyue Standard Part Co., Ltd.; and Zhejiang Morgan Brother Technology Co., Ltd.

⁸ See Antidumping Proceedings: Announcement of Change in Department Practice for Respondent Selection in Antidumping Duty Proceedings and Conditional Review of the Nonmarket Economy Entity in NME Antidumping Duty Proceedings, 78 FR 65963 (November 4, 2013).

⁹ See Certain Steel Threaded Rod from the People's Republic of China: Final Results of Antidumping Duty Administrative Review; 2012-2013, 79 FR 71743, 71744 and accompanying Issues and Decision Memorandum.

Methodology

The Department is conducting this review in accordance with section 751(a)(1)(B) of the Tariff Act of 1930, as amended (the “Act”). Export prices have been calculated in accordance with section 772 of the Act. Because the PRC is a non-market economy (“NME”) within the meaning of section 771(18) of the Act, NV has been calculated in accordance with section 773(c) of the Act.

For a full description of the methodology underlying our conclusions, see the Preliminary Decision Memorandum. A list of topics discussed in the Preliminary Decision Memorandum can be found at Appendix II to this notice. The Preliminary Decision Memorandum is a public document and is on file electronically via Enforcement and Compliance's Antidumping and Countervailing Duty Centralized Electronic Service System (“ACCESS”). ACCESS is available to registered users at http://access.trade.gov, and is available to all parties in the Central Records Unit, room B8024 of the main Department of Commerce building. In addition, a complete version of the Preliminary Decision Memorandum can be accessed directly on the Internet at http://www.enforcement.trade.gov/frn/index.html. The signed Preliminary Decision Memorandum and the electronic versions of the Preliminary Decision Memorandum are identical in content.

Preliminary Results of Review

The Department preliminarily determines that the following weighted-average dumping margins exist for the period April 1, 2014, through March 31, 2015:

Exporter | Weighted- average margin (Ad valorem)
IFI & Morgan Ltd. and RMB Fasteners Ltd. (collectively, the RMB/IFI Group) | 0.0
Zhejiang New Oriental Co., Ltd. | 12.10

Disclosure, Public Comment and Opportunity To Request a Hearing

The Department will disclose the calculations used in our analysis to parties in this review within five days of the date of publication of this notice in accordance with 19 CFR 351.224(b).

Interested parties may submit case briefs within 30 days after the date of publication of these preliminary results of review.¹⁰ Rebuttals to case briefs, which must be limited to issues raised in the case briefs, must be filed within five days after the time limit for filing case briefs.¹¹ Parties who submit arguments are requested to submit with the argument (a) a statement of the issue, (b) a brief summary of the argument, and (c) a table of authorities.¹² Parties submitting briefs should do so pursuant to the Department's electronic filing system, ACCESS.

¹⁰ See 19 CFR 351.309(c)(1)(ii).

¹¹ See 19 CFR 351.309(d)(1)-(2).

¹² See 19 CFR 351.309(c)(2), (d)(2).

Any interested party may request a hearing within 30 days of publication of this notice.¹³ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.¹⁴

¹³ See 19 CFR 351.310(c).

¹⁴ See 19 CFR 351.310(d).

The Department intends to issue the final results of this administrative review, which will include the results of our analysis of all issues raised in the case briefs, within 120 days of publication of these preliminary results in the Federal Register, unless extended, pursuant to section 751(a)(3)(A) of the Act.

Assessment Rates

Upon issuance of the final results, the Department will determine, and CBP shall assess, antidumping duties on all appropriate entries covered by this review.¹⁵ The Department intends to issue assessment instructions to CBP 15 days after the publication date of the final results of this review.

¹⁵ See 19 CFR 351.212(b).

For any individually examined respondent whose weighted average dumping margin is above de minimis (i.e., 0.50 percent) in the final results, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.¹⁶ Where either a respondent's weighted average dumping margin is zero or de minimis, or an importer- (or customer-) specific ad valorem is zero or de minimis, the Department will instruct CBP to liquidate appropriate entries without regard to antidumping duties.¹⁷ We intend to instruct CBP to liquidate entries containing subject merchandise exported by the PRC-wide entity at the PRC-wide rate.

¹⁶ See 19 CFR 351.212(b)(1).

¹⁷ See 19 CFR 351.106(c)(2).

Pursuant to the Department's assessment practice in NME cases, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.¹⁸ The final results of this review shall be the basis for the assessment of antidumping duties on entries of merchandise covered by the final results of this review and for future deposits of estimated duties, where applicable.

¹⁸ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

These preliminary results are issued and published in accordance with sections 751(a)(1) and 777(i)(1) of the Act and 19 CFR 351.221(b)(4).

Dated: May 5, 2016.
Paul Piquado,
Assistant Secretary for Enforcement and Compliance.

Appendix I

(1) Aerospace Precision Corp. (Shanghai) Industry Co., Ltd.

(2) Aihua Holding Group Co., Ltd.

(3) Autocraft Industry (Shanghai) Ltd.

(4) Autograft Industry Ltd.

(5) Billion Land Ltd.

(6) Bolt MFG. Trade Ltd.

(7) C and H International Corporation

(8) Certified Products International Inc.

(9) Changshu City Standard Parts Factory

(10) China Friendly Nation Hardware Technology Limited

(11) EC International (Nantong) Co., Ltd.

(12) Fastco (Shanghai) Trading Co., Ltd.

(13) Fasten International Co., Ltd.

(14) Fastwell Industry Co., Ltd.

(15) Fuda Xiongzhen Machinery Co., Ltd.

(16) Fuller Shanghai Co., Ltd.

(17) Gem-Year Industrial Co., Ltd.

(18) Guangdong Honjinn Metal & Plastic Co., Ltd.

(19) Haiyan Da YU Fasteners Co., Ltd.

(20) Haiyan Evergreen Standard Parts Co., Ltd.

(21) Haiyan Hurras Import & Export Co., Ltd.

(22) Haiyan Jianhe Hardware Co., Ltd.

(23) Haiyan Julong Standard Part Co., Ltd.

(24) Hangzhou Everbright Imp. & Exp. Co,. Ltd.

(25) Hangzhou Grand Imp. & Exp. Co., Ltd.

(26) Hangzhou Great Imp. & Exp. Co., Ltd.

(27) Hangzhou Lizhan Hardware Co., Ltd.

(28) Hangzhou Tongwang Machinery Co., Ltd.

(29) Jiangsu Zhongweiyu Communication Equipment Co., Ltd.

(30) Jiashan Steelfit Trading Co., Ltd.

(31) Jiashan Zhongsheng Metal Products Co., Ltd.

(32) Jiaxing Yaoliang Import & Export Co., Ltd.

(33) Jinan Banghe Industry & Trade Co., Ltd.

(34) Macropower Industrial Inc.

(35) Midas Union Co., Ltd.

(36) Nanjing Prosper Import & Export Corporation Ltd.

(37) New Pole Power System Co., Ltd.

(38) Ningbiao Bolts & Nuts Manufacturing Co.

(39) Ningbo Beilun Milfast Metalworks Co., Ltd.

(40) Ningbo Beilun Pingxin Hardware Co., Ltd.

(41) Ningbo Dexin Fastener Co., Ltd.

(42) Ningbo Dongxin High-Strength Nut Co., Ltd.

(43) Ningbo Fastener Factory

(44) Ningbo Fengya Imp. and Exp. Co., Ltd.

(45) Ningbo Fourway Co., Ltd.

(46) Ningbo Haishu Holy Hardware Import and Export Co., Ltd.

(47) Ningbo Haishu Wit Import & Export Co., Ltd.

(48) Ningbo Haishu Yixie Import & Export Co., Ltd.

(49) Ningbo Jinding Fastening Pieces Co., Ltd.

(50) Ningbo MPF Manufacturing Co., Ltd.

(51) Ningbo Panxiang Imp. & Exp. Co., Ltd.

(52) Ningbo Yili Import & Export Co., Ltd.

(53) Ningbo Yinzhou Foreign Trade Co., Ltd.

(54) Ningbo Yinzhou Woafan Industry & Trade Co., Ltd.

(55) Ningbo Zhongjiang High Strength Bolts Co., Ltd.

(56) Ningbo Zhongjiang Petroleum Pipes & Machinery Co., Ltd.

(57) Orient International Holding Shanghai Rongheng Intl Trading Co., Ltd.

(58) Prosper Business and Industry Co., Ltd.

(59) Qingdao Free Trade Zone Health Intl.

(60) Qingdao Top Steel Industrial Co., Ltd.

(61) Shaanxi Succeed Trading Co., Ltd.

(62) Shanghai Autocraft Co., Ltd.

(63) Shanghai East Best Foreign Trade Co.

(64) Shanghai East Best International Business Development Co., Ltd.

(65) Shanghai Fortune International Co., Ltd.

(66) Shanghai Furen International Trading

(67) Shanghai Hunan Foreign Economic Co., Ltd.

(68) Shanghai Jiabao Trade Development Co., Ltd.

(69) Shanghai Nanshi Foreign Economic Co.

(70) Shanghai Overseas International Trading Co., Ltd.

(71) Shanghai Prime Machinery Co., Ltd.

(72) Shanghai Printing & Dyeing And Knitting Mill

(73) Shanghai Printing & Packaging Machinery Corp.

(74) Shanghai Recky International Trading Co., Ltd.

(75) Shanghai Sinotex United Corp. Ltd.

(76) Suntec Industries Co., Ltd.

(77) Suzhou Henry International Trading Co., Ltd.

(78) T and C Fastener Co., Ltd.

(79) T and L Industry Co., Ltd.

(80) Wuxi Metec Metal Co., Ltd.

(81) Zhejiang Jin Zeen Fasteners Co., Ltd.

(82) Zhejiang Zhenglian Industry Development Co., Ltd.

(83) Zhoushan Zhengyuan Standard Parts Co., Ltd.

Appendix II

List of Topics Discussed in the Preliminary Decision Memorandum

1. Summary

2. Background

3. Verification

4. Scope of the Order

5. Respondent Selection

6. Non-Market Economy Country

7. Separate Rates

8. PRC-Wide Entity

9. Surrogate Country and Surrogate Value Data

10. Surrogate Country

11. Date of Sale

12. Comparisons to Normal Value

13. U.S. Price—Export Price

14. Normal Value

15. Factor Valuations

16. Currency Conversion

17. Conclusion

[FR Doc. 2016-11389 Filed 5-12-16; 8:45 am]

BILLING CODE 3510-DS-P